DEPARTMENT OF DEFENSE

Department of the Army

Notice of Intent To Prepare an Environmental Impact Statement for the Transformation of the 56th Brigade, Pennsylvania Army National Guard (PAARNG), Into a Stryker Brigade Combat Team (SBCT)

AGENCY: National Guard Bureau (NGB), Department of the Army (DA), DoD.

ACTION: Notice of intent.

SUMMARY: It is the intent of the National Guard Bureau and the Pennsylvania Army National Guard to prepare an Environmental Impact Statement addressing the proposed action of the transformation of the PAARNG's 56th Brigade into an SBCT. The purpose is to evaluate the environmental impacts associated with the action.

ADDRESSES: Interested parties can direct inquiries or furnish written comments or materials to Captain Patricia Rickard, SBCT Transformation EIS Project Officer, Environmental Section, 1119 Utility Road, Annville, Pennsylvania 17003-5002; phone: (717) 861-2580; or to Lieutenant Colonel Christopher Cleaver, NGTC-FTIG Public Affairs Officer, PADMVA Headquarters, Building 0-47, Annville, Pennsylvania 17003-5002; phone: (717) 861-8468.

FOR FURTHER INFORMATION CONTACT: Major Amy Calder, NEPA Team Leader, National Guard Bureau, Environmental Programs Division, 111 South George Mason Drive, Arlington VA 22204; phone: (703) 607-7971.

SUPPLEMENTARY INFORMATION: On July 12, 2001, the Secretary of the Army identified the 56th Brigade as one of six brigades designated for conversion to an SBCT. The purpose of this action is to enable the 56th Brigade to transform to achieve the force characteristics associated with the Army Transformation Plan. The requirement for change within the U.S. Army associated with the SBCT is based on the need to address the emerging security challenges of the 21st century. Chief among these challenges is the need to be able to respond more rapidly to different types of operations requiring military actions, including the ability to put a combat force anywhere in the world within 96 hours. World-wide deployment would utilize the C-130 transport aircraft, or aircraft with similar transport capabilities, to achieve this rapid deployment objective. The transformed force would rely on improved ground mobility and dramatically increased intelligence information and command and control capabilities. To support the increased mobility, the SBCT initiative incorporates the Stryker Interim Armored Vehicle (IAV) to transport troops over a variety of terrain and bring to the battlefield an assortment of equipment and armaments. Proficiency training for members of the 56th brigade will require the use of training facilities and ranges to maintain readiness levels as an SBCT. These facilities include such elements as electronic and training facilities for computer equipment, weapons firing ranges, and troop and vehicle maneuver areas. This proficiency training will occur under Inactive Duty Training (IDT) that consists of weekend drills and a multi-week Annual Training (AT) period. Readiness Centers (i.e., Armories) are spread across the State of Pennsylvania and support local IDT events. The National Guard Training Center-Fort Indiantown Gap (NGTC-FTIG) in Annville, Pennsylvania, has historically been used to provide training for members of the 56th Brigade and offers an assortment of firing ranges and other types of facilities that can be used for IDT events and certain limited AT applications. Fort Pickett, Virginia, has historically been used for AT events. Other U.S. Army installations which could be used to support IDT or AT events include Fort A P Hill, Virginia; Fort Dix, New Jersey; Fort Drum, New York; and Ravenna Training and Logistic Site, Ohio.

Alternatives that will be analyzed in the EIS include:

(1) The preferred project alternative under which transformation of the 56th Brigade into an SBCT would be implemented and would include six critical elements. These elements are administrative reorganization of the 56th Brigade into an SBCT; upgrades to information technology infrastructure to support digital training needs of the SBCT; initial equipment and soldier training at existing facilities; fielding of the Stryker IAV and associated new equipment; improvements to and consolidation of Statewide facilities (i.e., Readiness Centers, Organizational Maintenance Shops); and construction of new ranges and training facilities to support IDT and AT events at NGTC-FTIG and Fort Pickett.

(2) The no action alternative under which the 56th Brigade would not transform into an SBCT unit and would not be responsive to the Secretary of the Army's directive. The 56th Brigade would retain its current mission, unit structure, and training approach.

Any other viable alternatives that become evident as a result of public input and environmental analysis of the proposals within the plan will be developed and included in the EIS. Other alternatives may consist of alternative locations for specific projects, partial implementation of specific projects, or other modifications of specific projects.

Public scoping meetings will be held at three locations: (1) State Capitol in Harrisburg, Pennsylvania, (2) the vicinity of NGTC-FTIG, and (3) the vicinity of Fort Pickett, Virginia, to facilitate input to the EIS process by citizens and organizations. Dates, times and exact locations for these meetings will be announced through letters, public notices, display advertisements, and legal advertisements and will be released to newspapers of general circulation a minimum of 15 days prior to the meetings. Those wishing to provide information or data relevant to the environmental analysis of the proposed action or potential alternatives are encouraged to do so at the public scoping meetings.

Dated: December 9, 2003.
Raymond J. Fatz,
Deputy Assistant Secretary of the Army, (Environment, Safety and Occupational Health)

[FR Doc. 03-30821 Filed 12-12-03; 8:45 am]

BILLING CODE 3710-08-M